ENVIRONMENTAL PROTECTION AGENCY

40 CFR Part 52

[EPA-R05-OAR-2023-0481; FRL-11913-01-R5]

Air Plan Approval; Indiana; Sulfur Dioxide

AGENCY: Environmental Protection Agency (EPA).

ACTION: Proposed rule.

SUMMARY: In accordance with the Clean Air Act, the Environmental Protection Agency (EPA) is proposing to approve a September 11, 2023, State Implementation Plan (SIP) submittal from the Indiana Department of Environmental Management (IDEM), with information supplemented by a March 11, 2024, letter to EPA. This SIP submittal requests EPA approval of a revision to the monitoring and compliance requirements for certain process heater stacks at Safety-Kleen Oil Recovery Company in Lake County, Indiana. The submittal also requests EPA approval of a small language clarification and equipment listing revisions. Safety-Kleen is subject to emissions limits and monitoring and reporting requirements in the Indiana SIP for sulfur dioxide (SO2) located at title 326 of the Indiana Administrative Code (IAC).

DATES: Comments must be received on or before July 24, 2024.

ADDRESSES: Submit your comments, identified by Docket ID No. EPA-R05-OAR-2023-0481 at https://www.regulations.gov, or via email to langman.michael@epa.gov. For comments submitted at Regulations.gov, follow the online instructions for submitting comments. Once submitted, comments cannot be edited or removed from the docket. EPA may publish any comment received to its public docket. Do not submit to EPA's docket at https://www.regulations.gov any information you consider to be Confidential Business Information (CBI), Proprietary Business Information (PBI), or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, please contact the person identified in the FOR FURTHER INFORMATION CONTACT section. For the full EPA public comment policy, information about CBI, PBI, or multimedia submissions, and general guidance on making effective comments, please visit https://www.epa.gov/dockets/commenting-epa-dockets.

FOR FURTHER INFORMATION CONTACT: Anthony Maietta, Air and Radiation Division (AR18J), Environmental Protection Agency, Region 5, 77 West Jackson Boulevard, Chicago, Illinois 60604, (312) 353-8777, maietta.anthony@epa.gov. The EPA Region 5 office is open from 8:30 a.m. to 4:30 p.m., Monday through Friday, excluding Federal holidays.

SUPPLEMENTARY INFORMATION: Throughout this document whenever “we,” “us,” or “our” is used, we mean EPA.

I. What is the background for this action?

The Indiana SIP, at 326 IAC 7-4.1-16 Safety-Kleen Oil Recovery Company sulfur dioxide emission limitations, sets SO2 emissions limits for process heaters located at Safety-Kleen's Lake County facility. The SO2 limits are:

—14 pounds per hour and 60 tons per year for process heaters H-201 and H-301 (combined),

—10.8 pounds per hour and 47.3 tons per year for process heaters H-401 and H-402 (combined), and

—8 pounds per hour for process heater H-406.

The SIP provides Safety-Kleen with compliance options for the process heaters' SO2 limits, either by installing and operating a continuous emission monitoring system (CEMS) or by fuel sampling and off-gas analysis of sulfur content for each fuel tank. Safety-Kleen chose to utilize the fuel sampling and off-gas analysis option for all of its process heaters.

Between 2015 and 2021, Safety Kleen violated its SO2 emission limit and monitoring and compliance requirements set forth in 326 IAC 7-4.1-16. On October 20, 2021, IDEM and Safety-Kleen signed an Agreed Order to resolve violations of the SO2 emission limits and monitoring and compliance requirement.¹ Pursuant to the Agreed Order, Safety-Kleen agreed to install and operate SO2 CEMS on process heaters H-201 and H-401. The CEMS for these process heaters must be operated in accordance with Indiana's rules for operation of CEMS, located in the Indiana SIP at 326 IAC 3-5. IDEM reviewed 5 years of historical emissions data from process heater H-406 which showed it emitted 0.34 pounds per day on average, well below the eight pounds per hour SIP limit. As a result, process heater H-406 could continue to utilize the off-gas stream and fuel tank analysis compliance option.

¹ For more information about the specific SIP violations and agreed-upon remedies, see the October 20, 2021, IDEM/Safety-Kleen Agreed Order on IDEM's website at: https://ecm.idem.in.gov/cs/idcplg?IdcService=GET_FILE&dID=83240074.

326 IAC 7-4.1-16 was revised to codify provisions of the Agreed Order into the Indiana SIP. IDEM also revised 326 IAC 7-4.1-16 to reflect equipment changes at the facility in its title V operating permit.² IDEM removed decommissioned boilers from a list of boilers in the rule that must use natural gas, while adding a new boiler to that list. IDEM also clarified a paragraph of the rule indicating the vessel which must supply off-gas to process heater H-406. These revisions will be discussed in more detail in the next section.

² See IDEM's approval of Minor Source Modification No.: 089-45246-00301 for Safety-Kleen Systems, Inc. in East Chicago, Indiana dated April 1, 2022, at https://permits.air.idem.in.gov/45246f.pdf.

II. What revisions have been made to the SO2 SIP for Safety-Kleen Oil Recovery Company's Lake County facility?

On September 6, 2023, IDEM published a final rulemaking in the Indiana Register approving revisions to 326 IAC 7-4.1-16. IDEM initiated an initial public comment period for the draft rulemaking from February 16-March 18, 2022, with a second public comment period held from August 10-September 9, 2022. No comments were received during those periods. IDEM also held a public hearing for the draft rule on November 9, 2022, and another public hearing on the final rule on March 8, 2023. No comments were received at either public hearing.

IDEM revised 326 IAC 7-4.1-16 to remove the off-gas and fuel sampling compliance method option in order to meet the SO2 limits for process heaters H-201 and H-401 at 326 IAC 7-4.1-16(5)(A). This paragraph was revised to leave only process heater H-406 as able to determine compliance with off-gas and fuel sampling methods because of its low hourly SO2 emissions as described above. Paragraph 7-4.1-16(B) was revised to indicate that process heaters H-201 and H-401 must install and operate SO2 CEMS in order to comply with the SO2 limits in this rule. The remainder of the paragraphs in this rule were re-ordered to accommodate these revisions in the rule's paragraph list order. Among the re-ordered paragraphs are the unchanged compliance methods of fuel and off-gas sampling for the remaining Safety-Kleen process heaters. These revisions for process heaters H-201 and H-401 are approvable into the Indiana SIP because the CEMS is a more comprehensive and immediate testing and compliance method than the off-gas and fuel tank sampling process. This allows Safety-Kleen and IDEM to identify and respond to elevated SO2 emissions from these process heaters.

The September 6, 2023, IDEM rulemaking also approved a revision to paragraph 7-4.1-16(1) updating the list of boilers that must use natural gas as a fuel source by removing boilers SB-801 and SB-821 and by adding boiler SB-822. The list of boilers was revised to reflect the decommissioning of SB-801 and SB-821, and the addition of SB-822 which was approved for construction in Safety-Kleen's April 1, 2022, permit modification. The revision is approvable because it clarifies which boilers must use the natural gas fuel source and reflects the unit currently operating at the Safety-Kleen facility while removing decommissioned units from the rule.

Paragraph 7-4.1-16(4) was revised to clarify that process heater H-406 must additionally be fed by off-gas from vessel V-423. This revision was made to ensure that the low-sulfur off-gas from vessel V-423 only feeds to H-406 (which averages 0.34 pounds per day of SO2). This revision is also in accordance with the facility's operating permit, which prohibits process heater H-406 from being fed by higher-sulfur off gases from vessels V-307 and V-410. This is approvable because the revision clarifies that process heater H-406 must use a lower-sulfur off gas.

Lastly, the September 6, 2023, IDEM rulemaking clarified portions of 326 IAC 7-4.1-16, primarily replacing the word “shall” with the word “must” at various locations in the rule when describing actions Safety-Kleen must undertake to comply with the SO2 emissions limits and compliance requirements. The final clarification revision involves a unit listing of millions of British thermal units per hour in paragraph 7-4.1-16(5)(C), which has been revised to “MMBtu per hour” from “MMBtu/hr”. These revisions are approvable because the changes in wording clarify the requirements in the rule as they apply to the affected entity.

III. What action is EPA taking?

EPA is proposing to approve into the Indiana SIP revisions to 326 IAC 7-4.1-16, as contained in Indiana's September 11, 2023, submittal and clarified through a March 11, 2024, letter to EPA.

IV. Incorporation by Reference

In this rule, EPA is proposing to include in a final EPA rule regulatory text that includes incorporation by reference. In accordance with requirements of 1 CFR 51.5, EPA is proposing to incorporate by reference Indiana rule 326 IAC 7-4.1-16, effective August 11, 2023, discussed in section III of this preamble. EPA has made, and will continue to make, these documents generally available through www.regulations.gov and at the EPA Region 5 Office (please contact the person identified in the FOR FURTHER INFORMATION CONTACT section of this preamble for more information).

V. Statutory and Executive Order Reviews

Under the Clean Air Act, the Administrator is required to approve a SIP submission that complies with the provisions of the Clean Air Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a significant regulatory action subject to review by the Office of Management and Budget under Executive Orders 12866 (58 FR 51735, October 4, 1993), and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

In addition, the SIP is not approved to apply on any Indian reservation land or in any other area where EPA or an Indian tribe has demonstrated that a tribe has jurisdiction. In those areas of Indian country, the rulemaking does not have Tribal implications and will not impose substantial direct costs on Tribal governments or preempt Tribal law as specified by Executive Order 13175 (65 FR 67249, November 9, 2000).

Executive Order 12898 (Federal Actions To Address Environmental Justice in Minority Populations and Low-Income Populations, 59 FR 7629, February 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

IDEM did not evaluate EJ considerations as part of its SIP submittal; the Clean Air Act and applicable implementing regulations neither prohibit nor require such an evaluation. EPA did not perform an EJ analysis and did not consider EJ in this action. Due to the nature of the action being taken here, this action is expected to have a neutral to positive impact on the air quality of the affected area. Consideration of EJ is not required as part of this action, and there is no information in the record inconsistent with the stated goal of E.O. 12898 of achieving EJ for people of color, low-income populations, and Indigenous peoples.

List of Subjects in 40 CFR Part 52

Environmental protection, Air pollution control, Incorporation by reference, Intergovernmental relations, Sulfur oxides.

Dated: June 14, 2024.
Debra Shore,
Regional Administrator, Region 5.

[FR Doc. 2024-13601 Filed 6-21-24; 8:45 am]

BILLING CODE 6560-50-P